FEDERAL TRADE COMMISSION

Granting of Request for Early Termination of the Waiting Period Under the Premerger Notification Rules

Section 7A of the Clayton Act, 15 U.S.C. 18a, as added by Title II of the Hart-Scott-Rodino Antitrust Improvements Act of 1975, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—07/07/2004
20041015 | Nucor Corporation | Corus Group plc | Tuscaloosa Steel Corporation
20041052 | General Electric Company | BHA Group Holdings, Inc | BHA Group Holdings, Inc.
20041094 | RC2 Corporation | The First Years Inc | The First Years Inc.
Transactions Granted Early Termination—07/09/2004
20040904 | Intermagnetics General Corporation | MRI Devices Corporation | MRI Devices Corporation.
20041007 | Partners Limited | Reliant Energy, Inc | Carr Street Generating Station, L.P., Erie Boulevard Hydropower LP., Orion Power New York GP II, Inc., Orion Power Operating Services Carr Street, Inc., Orion Power Operating Services Coldwater, Inc.
20041041 | Deutsche Telekom AG | SBC Communications Inc | Cingular Wireless LLC, Newco, Pacific Telesis Mobile Services, LLC.
20041064 | Broadcom Corporation | Mission Ventures, II, L.P | Zyray Wireless Inc.
20041079 | UTStarcom, Inc. | Audiovox Corporation | Audiovox Communications Canada, Co., Audiovox Communications Corp., Quintex Mobile Communications Corp.
20041093 | Wells Fargo & Company | J. Randall Baird | JRB Company, Inc.
Transactions Granted Early Termination—07/12/2004
20041047 | Southwire Company | Commonwealth Industries, Inc | Alflex Corporation.
20041065 | General Atlantic Partners (Bermuda), L.P | Intec Telecom Systems PLC | Intec Telecom Systems PLC.
20041092 | Time Warner Inc. | Advertising.com, Inc | Advertising.com, Inc.
20041095 | Hartmarx Corporation | Harry Doolittle and Misook Doolittle | Exclusively Misook, Inc.
20041100 | Phillip R. Bennett | Phillip R. Bennett | Forstmann-Leff International Associates, LLC.
20041101 | Green Equity Investors IV, L.P | Nathan Kirsh | Jetro JMDH Holdings, Inc.
20041107 | Bradco Supply Corporation | Wickes Inc | Wickes Inc.
Transactions Granted Early Termination—07/13/2004
20041039 | American Medical Systems Holdings, Inc | Oracle Strategic Partners, L.P | TherMatrx, Inc.
20041074 | QLT Inc | Atrix Laboratories, Inc | Atrib Laboratories, Inc.
20041085 | TETRA Technologies, Inc | Compressco, Inc | Compressco, Inc.
20041104 | S. Craig Lindner | National City Corporation | National City Corporation.
20041108 | M/C Acquisition Corp | John M. Connors, Jr | M/C Communications, LLC.
20041117 | Mellon Financial Corporation | EACM Partners, L.P | Evaluation Associates Capital Markets, Inc., Evaluation Associates Capital Markets, LLC.
20041121 | KRG Capital Fund II, L.P | Blue Cross and Blue Shield of Michigan | PPOM, L.L.C.
Transactions Granted Early Termination—07/14/2004
20041078 | Adaptec, Inc | Snap Appliance, Inc | Snap Appliance, Inc.
20041109 | Thomas H. Lee (Alternative) Fund V, L.P | Oak Hill Capital Partners (Bermuda), L.P | 3045036 Nova Scotia Limited, Progressive Moulded Products Limited.
20041115 | Newcoal, LLC | Horizon Natural Resources Company | Horizon Natural Resources Company.
20041118 | aQuantive, Inc | SBI Holdings Inc | SBI Holdings Inc.
20041119 | Harbert Distressed Investment Offshore Fund, Ltd | Warren Steel, Inc | Warren Steel, Inc.
20041124 | Aalberts Industries N.V | Amcast Industrial Corporation | Amcast Industrial Corporation.
20041125 | HSBC Holdings, plc | Code Hennessy & Simmons IV, L.P | Kranson Holding Company.
Transactions Granted Early Termination—07/15/2004
20041091 | IMC Global Inc | IMC Global Inc | Phosphate Resource Partners Limited Partnership.
20041096 | General Atlantic Partners 54, L.P | Hewitt Associates, Inc | Hewitt Associates, Inc.
20041097 | General Atlantic Partners 60, L.P | Hewitt Associates, Inc | Hewitt Associates, Inc.
Transactions Granted Early Termination—07/17/2004
20041141 | Societe Generale S.A | CGW Southeast Partners I, L.P | Sovitec Cataphote, Inc.
Transactions Granted Early Termination—07/19/2004
20041048 | National Association of Securities Dealers, Inc | SunGard Data Systems, Inc | Toll Associates LLC.
20041120 | JDA Software Group, Inc | QRS Corporation | QRS Corporation.
20041128 | KRG Capital Fund II, LP | AMGI Holdings, Inc | AMGI Holdings, Inc.
20041131 | Roger S. Penske | Theodore J. Stevens | La Rincondada Securities, Inc., Marin Securities, Inc., SDB, Inc., Ted Stevens Car Co., Inc.
20041133 | Financiere F.L | Derek SA | Financiere Alexandre III.
20041134 | HSBC Holdings plc | KII Holdings Corporation | KII Holdings Corporation.
20041136 | KSTA Holdings, Inc | American Industrial Partners Capital Fund II, L.P | Stanadyne Automotive Holding Corp.
20041144 | Citigroup Inc | Intcomex Holdings, LLC | Intcomex Holdings, LLC.
20041150 | Journal Register Company | 21st Century Newspapers, Inc | 21st Century Newspapers, Inc.
Transactions Granted Early Termination—07/20/2004
20041142 | Charles River Laboratories International, Inc | Inveresk Research Group, Inc | Inveresk Research Group, Inc.
20041149 | Aurora Equity partners II L.P | American Securities Partners II, L.P | Anthony Holdings, Inc.
Transactions Granted Early Termination—07/21/2004
20041080 | Nucor Corporation | Worthington Industries, Inc | Worthington Steel Company of Decatur, L.L.C.
20041087 | Motorola, Inc | Solectron Corporation | Force Computers GmbH, Force Computers, Inc.
20041110 | Hewitt Associates, Inc | Exult, Inc | Exult, Inc.
20041138 | Automatic Data Processing, Inc | Bank of America Corporation | Fleet Securities, Inc.
Transactions Granted Early Termination—07/22/2004
20041098 | Engelhard Corporation | The Collaborative Group, Ltd | The Collaborative Group, Ltd.
Transactions Granted Early Termination—07/23/2004
20041058 | Manulife Financial Corporation | El Paso Corporation | Juniper Generation, LLC.
20041063 | Cisco Systems, Inc | Procket Networks, Inc | Procket Networks, Inc.
20041114 | BAE Systems plc | The Boeing Company | Boeing-Irving Co., Boeing Operations International, Incorporated.
20041122 | Bain Captial Fund VII, L.P | Gerald W. Schwartz | Loews Cineplex Entertainment Corporation.
20041129 | Comcast Corporation | Liberty Media Corporation | Encore ICCP, Inc.
20041130 | Citigroup Inc | Lava Trading Inc | Lava Trading Inc.
20041151 | Sammy Corporation | Sega Corporation | Sega Corporation.
20041153 | TA IX L.P | Stephen M. Lamando | Clayton Services, Inc., and its subsidiaries, First Madison Services, Inc.
20041168 | Cypress Merchant Banking Partners II, L.P | Dana Corporation | AAG Brasil Ind. E Com. De Autopecas, Ltda., Fanacif S.A., Auto Parts Acquisition LLC, Iroquois Tool Systems, Inc., Beck/Arnley Worldparts Corp., Dana Japan, Ltd., Brake Parts Canada Inc., Farloc Argentina, SAIC, Brake Systems Inc., Injection Research Specialists, Inc., BWD International Inc., Durakool Inc., C.A. Danaven, Dana Automotive Limited, Canadados Universales de Mexico S.A. de C.V., Coupled Products, Inc., Echlin, Inc., Gard Corp., Dana Argentina S.A., Friction Materials, Inc., Dana Canada Corporation, Dana Industries Ltda., Dana Canada Inc., Dana Spicer Europe Limited, Dana Corporation, Echlin Agrentina S.A., Dana Global Holdings Inc., Echlin de Venezuela C.A., Friction, Inc., Grupo-Echlin Automrotiz S.A. de C.V., Wix Filtron Sp. Zo.o, Inversora Sabana S.A., Echlin de Venezuela C.A., Krizman International, Automotive Brake Company Inc., Pellegrino Distribuidora Autopecas Ltda., Arvis S.R.L., Quinton Hazell Automotive Limited, Quinton Hazell Deutschland GmbH, M., Friesen GmbH, Quinton Hazell France S.A.S., Quinton Hazell Italia Spa, Tianjin Wix Filter Corp. Ltd., Wix Dana Corp., Wix Filtration Media Specialists, Inc., BWDAC, Inc.
20041169 | Cypress Merchant Banking Partners II, L.P | Automotive Aftermarket Holdings Corp | Automotive Aftermarket Holdings Corp.
Transactions Granted Early Termination—07/26/2004
20041123 | Arch Coal, Inc | Arch Coal, Inc | Canyon Fuel Company, LLC, Hassel Auto Group, Inc., Hassel Auto West, Inc., Hassel Motors, Inc.
20041158 | Willis Stein & Partners, III, L.P | McAdams, Inc | McAdams, Inc.
20041163 | Harold E. Riley | Alderwoods Group, Inc | Security Plan Life Insurance Company.
20041165 | Kotobuki Fudosan Ltd | The Pepsi-Cola Bottling Company of Salisbury, Maryland | The Pepsi-Cola Bottling Company of Salisbury, Maryland.
Transactions Granted Early Termination—07/27/2004
20041174 | SunTrust Banks, Inc | National Commerce Financial Corporation | NBC Capital Markets Group, Inc., NBC Insurance Services, Inc., NCF Financial Services, Inc.
Transactions Granted Early Termination—07/28/2004
20040716 | Sanofi-Synthelabo | Aventis | Aventis.
20041126 | Allied Capital Corporation | Windward Capital Associated, L.P | Financial Pacific Company.
20041161 | MarkWest Energy Partners, L.P | Stephen J. Heyman | ACGC Gathering Company, L.L.C., American Central Eastern Texas Gas Company, L.P.
20041162 | MarkWest Energy Partners, L.P | Stephen E. Jackson | ACGC Gathering Company, L.L.C., American Central Eastern Texas Gas Company, L.P.
20041167 | Worthington Industries, Inc | B-G Western Holdings, LLC | B-G Western Holdings, LLC, Western Industries, Inc.
Transactions Granted Early Termination—07/29/2004
20041143 | Harvest Partners IV, L.P | KKR 1996 Fund L.P | Evenflo Company, Inc.
20041160 | Emerson Electric Co | Marconi Corporation plc | Administrativa Marconi Communications S.A. de C.V., Marconi Columbia, S.A., Marconi Communications Canada, Inc., Marconi Communications de Mexico S.A., de C.V., Marconi Communications Exportal, S.A. de C.V., Marconi Communications, Inc., Marconi Intellectual Property (Ringfence) Inc., Marconi Polska Sp zoo.
20041166 | WebMD Corporation | Cornerstone Equity Investors IV, L.P | VIPS, Inc.
20041176 | Johnson Controls, Inc | Grupo IMSA, S.A. De. C.V | Enertec Colombia, Ltda., Enertec do Brasil, Ltda., Enertec Exports S. de R.L. de. C.V., Enertec Mexico, S. de R.L. de C.V., Enertec Venezuela, SRL, Enertek Argentina, SRL, GES Battery Systems, LLC, GES Technologies, S. De R.L., de C.V.
Transactions Granted Early Termination—07/30/2004
20041127 | HIP Foundation, Inc | Carlyle Partners III, L.P | ConnectiCare Holding Company, Inc.
20041170 | Stab Development S.a.r.l | KKR European Fund Limited Partnership, Alberta, Canada, L.P | Stabilus HoldCo3 (drei) GmbH.
20041173 | Wallace D. Malone, Jr | Wachovia Corporation | Wachovia Corporation
20041175 | Modern Times Group MTG AB | StoryFirst Communications, Inc | StoryFirst Communications, Inc.
20041177 | Time Warner Inc | Inner City Broadcasting Corp | Urban Cable Works of Philadelphia, L.P.
20041178 | Yamanouchi Pharmaceutical Co. Ltd | Fujisawa Pharmaceutical Co. Ltd | Fujisawa Pharmaceutical Co. Ltd.
20041180 | Wind Point Partners V, L.P | Industrial Growth Partners, L.P | Breeze Industrial Products Corporation.
20041185 | Flextronics International Ltd | Peripheral Imaging Corporation | Peripheral Imaging Corporation.
20041189 | Thomas H. Lee Equity Fund V, L.P | Nortek Holdings, Inc | Nortek Holdings, Inc.
20041198 | Digitas Inc | Modem Media, Inc | Modem Media, Inc.
20041202 | DrugMax, Inc | Familymeds Group, Inc | Familymeds Group, Inc.
20041205 | Apax Excelsior VI, L.P | Spyder Active Sports, Inc | Spyder Active Sports, Inc.

FOR FURTHER INFORMATION CONTACT: Sandra M. Peay, Contact Representative or Renee Hallman, Case Management Assistant, Federal Trade Commission, Premerger Notification Office, Bureau of Competition, Room H-303, Washington, DC 20580, (202) 326-3100.

By direction of the Commission.
C. Landis Plummer,
Acting Secretary.

[FR Doc. 04-18127 Filed 8-6-04; 8:45 am]

BILLING CODE 6750-01-M